DEPARTMENT OF TRANSPORTATION

Surface Transportation Board

[Docket No. EP 519 (Sub-No. 4)]

Notice of National Grain Car Council Meeting

AGENCY: Surface Transportation Board, DOT.

ACTION: Notice of National Grain Car Council meeting.

SUMMARY: Notice is hereby given of a meeting of the National Grain Car Council (NGCC), pursuant to section 10(a)(2) of the Federal Advisory Committee Act, Pub. L. No. 92-463, as amended (5 U.S.C., App. 2).

DATES: The meeting will be held on Thursday, September 16, 2010, beginning at 1:00 p.m. (CDT) and is expected to conclude at 5 p.m. (CDT).

ADDRESSES: The meeting will be held at the Omaha Hilton, 1001 Cass Street, Omaha, NE 68102. Phone 402-998-3400.

FOR FURTHER INFORMATION CONTACT: Thomas Brugman at (202) 245-0281. [Assistance for the hearing impaired is available through the Federal Information Relay Service (FIRS) at: (800) 877-8339].

SUPPLEMENTARY INFORMATION: The NGCC arose from a proceeding instituted by the Surface Transportation Board's predecessor agency, the Interstate Commerce Commission (ICC), in National Grain Car Supply—Conference of Interested Parties, EP 519. The NGCC was formed as a working group to facilitate private-sector solutions and recommendations to the ICC (and now the Board) on matters affecting grain transportation.

The general purpose of this meeting is to discuss rail carrier preparedness to transport the 2010 fall grain harvest. Agenda items include the following: Remarks by Board Chairman Daniel R. Elliott III, Vice-Chairman Francis P. Mulvey (who serves as Co-Chairman for the NGCC), and Commissioner Charles D. Nottingham; reports by rail carriers and shippers on grain-service related issues; a report by rail car manufacturers and lessors on current and future availability of various grain-car types; a presentation and discussion regarding the development of Positive Train Control; discussion of export grain in intermodal containers; a presentation by the White Paper subcommittee; and an open forum on BNSF Certificates of Transportation (COTs) for Processors, weather's effect on supply/demand of equipment, and export market impact on U.S. grain car supply. The full agenda and a copy of the White Paper are posted on the Board's Web site at http://www.stb.dot.gov/stb/rail/graincar_council.html.

The meeting, which is open to the public, will be conducted pursuant to the NGCC's charter and Board procedures. Further communications about this meeting may also be announced through the Board's Web site.

This action will not significantly affect either the quality of the human environment or the conservation of energy resources.

Dated: August 27, 2010.
Kulunie L. Cannon,
Clearance Clerk.

[FR Doc. 2010-21812 Filed 8-31-10; 8:45 am]

BILLING CODE 4915-01-P